GENERAL SERVICES ADMINISTRATION

48 CFR Part 502

[GSAM Change 62; GSAR Case 2013-G503; Docket No. 2014-0018; Sequence No. 1]

RIN 3090-AJ52

General Services Administration Acquisition Regulation (GSAR), Definitions in GSAR Part 502

AGENCY: Office of Acquisition Policy, General Services Administration (GSA).

ACTION: Final rule.

SUMMARY: The General Services Administration (GSA) is issuing a final rule amending the General Services Administration Acquisition Regulation (GSAR) to move the definitions of words and terms from the regulatory text to the non-regulatory General Services Acquisition Manual (GSAM).

DATES: Effective: January 13, 2015.

FOR FURTHER INFORMATION CONTACT: Mr. James Tsujimoto, Procurement Analyst, at 202-208-3585, or email at james.tsujimoto@gsa.gov for clarification of content. For information pertaining to the status or publication schedules, contact the Regulatory Secretariat Division at 202-501-4755. Please cite GSAR Case 2013-G503.

SUPPLEMENTARY INFORMATION:

I. Discussion of Changes

The General Services Administration (GSA) is amending the General Services Administration Acquisition Regulation (GSAR) to move the definitions from the regulatory GSAR to the non-regulatory General Services Acquisition Manual (GSAM). The definitions listed in GSAR section 502.101 pertain to internal operations only and not the general public. Thus, the definitions belong in the non-regulatory GSAM.

II. Public Comments Not Required

41 U.S.C. 1707, Publication of proposed regulations, applies to the publication of the General Services Administration Acquisition Regulation. Paragraph (a)(1) of the statute requires that a procurement policy, regulation, procedure, or form (including amendment or modification thereof) must be published for public comment if it has either a significant effect beyond the internal operating procedures of the agency issuing the policy, regulation, procedure, or form, or has a significant cost or administrative impact on contractors or offerors. This final rule is not required to be published for public comment because the definitions affect internal operations only. The change is solely within the discretion of the agency and has no impact on the public.

III. Executive Orders 12866 and 13563

Executive Orders (E.O.s) 12866 and 13563 direct agencies to assess all costs and benefits of available regulatory alternatives; and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under Section 6(b) of E.O. 12866, Regulatory Planning and Review, dated September 30, 1993. This rule is not a major rule under 5 U.S.C. 804.

IV. Regulatory Flexibility Act

The Regulatory Flexibility Act does not apply to this rule because this final rule does not constitute a significant GSAR revision and 41 U.S.C. 1707 does not require publication for public comment.

V. Paperwork Reduction Act

This final rule does not contain any information collection that requires additional approval of the Office of Management and Budget under the Paperwork Reduction Act (44 U.S.C. Chapter 35).

List of Subjects in 48 CFR Part 502

Government procurement.

Dated: January 7, 2015.
Jeffrey A. Koses,
Senior Procurement Executive, Director, Office of Acquisition Policy, Office of Government-wide Policy.

Therefore, GSA amends 48 CFR part 502 as set forth below:

PART 502 [REMOVED AND RESERVED]

1. Accordingly, under the authority of 40 U.S.C. 486(c), amend 48 CFR Chapter 5 by removing and reserving part 502.

[FR Doc. 2015-00316 Filed 1-12-15; 8:45 am]

BILLING CODE 6820-61-P